DEPARTMENT OF THE INTERIOR

Fish and Wildlife Service

RIN 1018-AI56

Fiscal Year 2002 Private Stewardship Grants Program; Proposed Program Implementation

AGENCY: Fish and Wildlife Service, Interior.

ACTION: Notice; request for comments.

SUMMARY: For Fiscal Year 2002, Congress appropriated $10 million from the Land and Water Conservation Fund for the U.S. Fish and Wildlife Service (Service) to establish a Private Stewardship Grants Program (PSGP). The PSGP provides grants and other assistance on a competitive basis to individuals and groups engaged in private conservation efforts that benefit species listed as endangered or threatened under the Endangered Species Act of 1973, as amended (Act), species proposed or candidates for such listing, or other at-risk species (e.g., species formally recognized as a species of conservation concern, such as species listed by a State or Territory). We request comments on the proposed eligibility criteria, project ranking factors and scoring system, or any other aspect of the Private Stewardship Grants Program.

DATES: We will accept comments on program implementation until July 8, 2002.

ADDRESSES: Send comments regarding program implementation to Chief, Branch of Recovery and State Grants, U.S. Fish and Wildlife Service, 4401 N. Fairfax Drive, Room 420, Arlington, VA 22203.

FOR FURTHER INFORMATION CONTACT: Martin Miller, Chief, Branch of Recovery and State Grants (703/358-2061).

SUPPLEMENTARY INFORMATION:

Background

The majority of endangered and threatened species depend, at least in part, upon privately owned lands for their survival. The help of landowners is essential for the conservation of these and other imperiled species. Fortunately, many private landowners want to help. Often, however, the costs associated with implementing conservation actions are greater than a landowner could undertake without financial assistance. The President's Budget for Fiscal Year 2002 requested funding to address this need and Congress responded by appropriating $10 million in FY 2002 from the Land and Water Conservation Fund for the Service to establish the PSGP. The PSGP provides grants or other Federal assistance on a competitive basis to individuals and groups engaged in private conservation efforts that benefit species listed or proposed as endangered or threatened under the Act, candidate species, or other at-risk species on private (non-governmentally owned) lands within the United States.

What Types of Projects May Be Funded?

Eligible projects include those by landowners and their partners who need technical and financial assistance to improve habitat or implement other activities on private lands for the benefit of endangered, threatened, candidate, proposed, or other at-risk species. Examples of the types of projects that may be funded include restoring natural hydrology to streams or wetlands that support imperiled species, fencing to exclude animals from sensitive habitats, or planting native vegetation to restore degraded habitat.

Who Can Apply for These Grants?

Individual private landowners as well as groups of private landowners will ybe encouraged to submit project proposals for their properties. Additionally, individuals or groups (e.g., land conservancies) working with private landowners on conservation efforts will also be encouraged to submit project proposals provided they identify specific private landowners who have confirmed their intent to participate with them in the conservation efforts.

What Are the Proposed Eligibility Criteria for Proposed Projects?

We propose that all of the following criteria must be satisfied for a proposal to be considered for funding: (1) The project must involve voluntary conservation efforts on behalf of private landowners within the United States (i.e., U.S. States and Territories); (2) the project must benefit species listed as endangered or threatened under the Act by the Service, species proposed or designated as candidates for listing by the Service, or other at-risk species that are native to the United States; (3) the proposal must include at least 10 percent cost sharing (i.e., at least 10 percent of total project cost) on the part of the landowner or other non-Federal partners involved in the project (the cost-share may be an in-kind contribution, including equipment, materials, operations, and maintenance costs); (4) the proposal must identify at least some of the specific landowners who have confirmed their intent to participate in the private conservation efforts (not all participating landowners need to be identified at the time of the proposal submission); (5) the proposal must include a reasonably detailed budget indicating how the funding will be used and how each partner is contributing; and (6) the proposal must include quantifiable measures that can be used to evaluate the project's success. The project proposal should also indicate whether partial funding of the project is practicable, and, if so, what specific portion(s) of the project could be implemented with what level of funding. A project proposal that fits into a longer-term initiative will be considered; however, the proposed project's objectives and benefits must stand on their own, as there are no assurances that additional funding would be awarded in subsequent years for other related projects.

We do not intend to grant funding for projects that serve to satisfy regulatory requirements of the Act including complying with a biological opinion under section 7 of the Act or fulfilling commitments of a Habitat Conservation Plan under section 10 of the Act, or for projects that serve to satisfy other local, State, or Federal regulatory requirements (e.g., mitigation for local, State, or Federal permits). Additionally, we do not intend to award grants to fund the acquisition of real property either through fee title or easements. However, habitat improvements over and above any existing requirements for lands covered under current easements or other such conservation tools would be considered eligible for funding.

In addition to the above general eligibility criteria that will be required for project proposals to be considered for funding, there will be additional requirements for projects that are selected to receive funding under the PSGP. These requirements include specific Federal financial management requirements and time commitments for maintaining habitat improvements or other activities described in the project proposal. These requirements vary depending on the type of grantee (individual, nonprofit organization, etc.) and the type of project to be funded (e.g., grantees will be required to satisfy the time commitment as described in their proposal for leaving the habitat improvement in place in order to realize the desired habitat benefits). Additionally, the Service, in cooperation with the grantees, must address Federal compliance issues, such as the National Environmental Policy Act, the National Historic Preservation Act, and the Endangered Species Act. For the projects that are selected to receive funding, we will provide additional guidance on compliance with these requirements.

How Will Proposals Be Selected?

Proposals will compete at a regional level for funding. We will target 50 percent of the grant funding to the Service's Regions based on the number of acres of non-Federal land, as a representation of the amount of private land within each Region, and 50 percent based on the number of listed, proposed, candidate, and other at-risk species in each Region (see Table 1). Within each Region, a diverse panel of representatives from State and Federal government, conservation organizations, agriculture and development interests, and the science community will assess the applications and make funding recommendations to the Service. The purpose of using the diverse panels is to obtain individual advice on project selection from an array of interests involved with conservation efforts on private lands. The Service will make all funding selections, subject only to the final approval of the Assistant Secretary for Fish and Wildlife and Parks. The Service will award grants for actions and activities that protect and restore habitats that benefit federally listed, proposed or candidate species, or other at risk species on private lands.

Table 1.—Service Regions and Funding Target for Grants in Each Region
Region | States and territories | Total funding target for grants within region
Region 1 (Pacific) | California, Hawaii, Idaho, Oregon, Washington, Nevada, American Samoa, Guam, and Commonwealth of the Northern Mariana Islands | $2,821,859
Region 2 (Southwest) | Arizona, New Mexico, Oklahoma, and Texas | 1,490,457
Region 3 (Great Lakes-Big Rivers) | Illinois, Indiana, Iowa, Michigan, Minnesota, Missouri, Ohio, and Wisconsin | 942,981
Region 4 (Southeast) | Alabama, Arkansas, Florida, Georgia, Kentucky, Louisiana, Mississippi, North Carolina, South Carolina, Tennessee, Puerto Rico, and the U.S. Virgin Islands | 1,723,690
Region 5 (Northeast) | Connecticut, Delaware, District of Columbia, Maine, Maryland, Massachusetts, New Hampshire, New Jersey, New York, Pennsylvania, Rhode Island, Vermont, Virginia, and West Virginia | 634,151
Region 6 (Mountain-Prairie) | Colorado, Kansas, Montana, Nebraska, North Dakota, South Dakota, Utah, and Wyoming | 1,413,886
Region 7 (Alaska) | Alaska | 472,976

Members of each diverse panel will individually score each proposal based on a set of ranking factors, which include (1) the number of endangered or threatened species, species proposed or candidates for such listing, and at-risk species that will benefit from the project; (2) the importance of the project to the conservation of those species, including the duration of the benefits, the magnitude of the benefits, and the urgency of the project; (3) the amount of non-Federal cost sharing involved in the project; and (4) other proposal merits, such as whether the project complements other conservation projects in the area, the project's unique qualities, feasibility of the project, or any other appropriate justifications, including particular strengths in the above categories (e.g., extraordinary benefits). Final project selections will be based on projects' total scores, although geographic distribution of projects, the amount of funding requested for a project compared with the total amount of funding available, and other such factors may also be considered. Partial funding of one or more projects, when practicable, may be considered.

Due to the wide variety of project proposals that will likely be submitted, the scoring system must provide a relatively high degree of flexibility. Therefore, a scoring system that is relatively simple, but allows project proposals to be evaluated qualitatively as well as quantitatively is desired. We propose that the four ranking factors be scored as described in Table 2 below.

Table 2.—Project Proposal Scoring Guidelines
[10 points maximum]
Ranking factor | Project proposal assessment | Number of points
(1) The number of federally listed, proposed, candidate, or at-risk species that will benefit from the project | 1 or 2 species 3 or more species | 1 2
(2) The importance of the project to the conservation of the target species, including the duration of the benefits, the magnitude of the benefits, and the urgency of the project | Qualitative | 1-4
(3) The amount of non-Federal cost sharing involved in the project | Five percent or greater in addition to the required ten percent | 0-1
(4) Other Proposal Merits. Whether the project complements other projects in the area, the project's unique qualities, feasibility of the project, or any other appropriate justifications, including particular strengths in the above categories (e.g. extraordinary benefits) | Qualitative | 0-3

How Will the PSGP Further the Mission of the Service?

In accordance with the Government Performance and Results Act of 1993 (31 U.S.C. 1115), the Service prepares a Strategic Plan. This plan describes the Service's performance goals and measures. Additionally, President Bush has launched a bold new strategy for improving the management and performance of the Federal government. Secretary Norton has adopted the President's management agenda and created a new vision of management excellence at the Department of the Interior that focuses her commitment to citizen-centered governance around “four Cs”': Conservation through Cooperation, Consultation, and Communication.

The PSGP will reflect the President's strategy and embody the Secretary's commitment to citizen-centered government. The eligibility criteria, selection factors, and reporting requirements in the PSGP will ensure that the projects funded maximize progress toward our goals and measures. Among others, the PSGP will further the Service's goals for conserving imperiled species and habitat conservation as described in the Service's strategic plan. Information on the Service's strategic plans and performance reports are available on the Service's internet site at http://planning.fws.gov/.

Public Comments Solicited

We intend that the actions resulting from this proposed program implementation be as accurate and effective as possible. Therefore, any suggestions from the public, concerned governmental agencies, the scientific community, environmental groups, industry, commercial trade entities, or any other interested party concerning this proposed program implementation guidance are hereby solicited. We will take into consideration any comments and additional information received and we will announce a Request for Proposals in the Federal Register after the close of the comment period and as promptly as possible after all comments have been reviewed and analyzed. The Request for Proposals will describe the final eligibility criteria and ranking factors to be used for Fiscal Year 2002 and provide instructions on how to apply for these grants.

Our practice is to make comments, including names and home addresses of respondents, available for public review during regular business hours. Respondents may request that we withhold their home address, which we will honor to the extent allowable by law. There also may be circumstances in which we would withhold a respondent's identity, as allowable by law. If you wish us to withhold your name or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the Division of Consultation, HCPs, Recovery, and State Grants in Arlington, Virginia (see FOR FURTHER INFORMATION CONTACT).

Required Determinations

Regulatory Planning and Review

This policy document identifies proposed eligibility criteria and selection factors that may be used to award grants under the PSGP. The Service developed this draft policy to ensure consistent and adequate evaluation of project proposals that are voluntarily submitted and to help perspective applicants understand how grants will be awarded. In accordance with Executive Order (E.O.) 12866, this policy document is significant and has been reviewed by the Office of Management and Budget (OMB) in accordance with the four criteria discussed below.

(a) The PSGP will not have an annual effect on the economy of $100 million or more or adversely affect in a material way the economy, a sector of the economy, productivity, jobs, the environment, public health or safety, or State, local or tribal communities. A total of $9,500,000 will be awarded in grants to private landowners or their partners to implement voluntary conservation actions.

These funds will be used to pay for actions such as restoring natural hydrology to streams or wetlands that support imperiled species, fencing to exclude animals from sensitive habitats, or planting native vegetation to restore degraded habitat. In addition, the projects that are funded will generate other secondary benefits, including benefits to natural systems (e.g., air, water) and local economies. All of these benefits are distributed widely and are not likely to be significant in any one location. It is likely that local residents near projects where grants are awarded will experience some level of benefit, but it is not possible to quantify these effects at this time. However, the sum total of all the benefits from this program is not expected to have an annual effect on the economy of $100 million or more.

(b) We do not believe the PSGP would create inconsistencies with other agencies' actions. Congress has given the Service responsibility to administer the program.

(c) As a new grant program, the PSGP would materially affect entitlements, grants, user fees, loan programs, or the rights and obligations of their recipients. The submission of project proposals is completely voluntary. However, when an applicant decides to submit a project proposal, the proposed eligibility criteria and selection factors identified in this policy can be construed as requirements placed on the awarding of the grants. Additionally, we will place further requirements on proponents of projects that are selected to receive funding under the PSGP. These requirements include specific Federal financial management requirements and time commitments for maintaining habitat improvements or other activities described in the applicant's project proposal in order to obtain and retain the benefit they are seeking.

(d) OMB has determined that this policy raises novel legal or policy issues and, as a result, this document has undergone OMB review.

Regulatory Flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. SBREFA amended the Regulatory Flexibility Act to require Federal agencies to provide a statement of the factual basis for certifying that the rule will not have a significant economic impact on a substantial number of small entities. SBREFA also amended the RFA to require a certification statement. In this notice, we are certifying that the PSGP will not have a significant economic impact on a substantial number of small entities for the reasons described below.

Small entities include small organizations, such as independent non-profit organizations, and small governmental jurisdictions, including school boards and city and town governments that serve fewer than 50,000 residents, as well as small businesses. Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we consider the types of activities that might trigger impacts as a result of this program. In general, the term significant economic impact is meant to apply to a typical small business firm's business operations.

The types of effects this program could have on small entities include economic benefits resulting from the purchasing of supplies or labor to implement the project proposals. However, since this program will be awarding a total of only $9,500,000 for projects throughout the United States, a substantial number of small entities are unlikely to be affected. The benefits from this program will be spread over such a large area that it is unlikely that any significant benefits will accrue to a significant number of entities in any area. In total, the distribution of $9,500,000 will not create a significant economic benefit for small entities, but clearly a number of entities will receive some benefit.

Unfunded Mandates Reform Act (2 U.S.C. 1501 et seq.)

In accordance with the Unfunded Mandates Reform Act (2 U.S.C. 1501 August 25, 2000 et seq.):

(a) We believe this rule will not “significantly or uniquely” affect small governments. A Small Government Agency Plan is not required. This program provides benefits to private landowners.

(b) This rule will not produce a Federal mandate of $100 million or greater in any year; that is, it is not a “significant regulatory action” under the Unfunded Mandates Reform Act. The PSGP imposes no obligations on State or local governments.

Takings

In accordance with Executive Order 12630 (“Government Actions and Interference with Constitutionally Protected Private Property Rights”), the PSGP does not have significant takings implications. While private landowners may choose to directly or indirectly implement actions that may have property implications, they would do so as a result of their own decisions, not as result of the PSGP. The PSGP has no provisions that would take private property rights.

Executive Order 13211

On May 18, 2001, the President issued an Executive Order (E.O. 13211) on regulations that significantly affect energy supply, distribution, and use. Executive Order 13211 requires agencies to prepare Statements of Energy Effects when undertaking certain actions. Although this rule is a significant regulatory action under Executive Order 12866, it is not expected to significantly affect energy supplies, distribution, or use. Therefore, this action is not a significant energy action and no Statement of Energy Effects is required.

Federalism

In accordance with Executive Order 13132, the rule does not have significant Federalism effects. A Federalism assessment is not required. Congress has directed that we administer grants under the PSGP directly to private landowners.

Civil Justice Reform

In accordance with Executive Order 12988, the PSGP does not unduly burden the judicial system and does meet the requirements of sections 3(a) and 3(b)(2) of the Order. With the guidance provided in this policy document, the requirements of the PSGP will be clarified to applicants that voluntarily submit project proposals.

Paperwork Reduction Act of 1995 (44 U.S.C. 3501 et seq.

In accordance with the Paperwork Reduction Act (44 U.S.C. 3501), please note the following information. The information collection associated with the PSGP is authorized by the Department of the Interior and Related Agencies Appropriations Act, 2002, H.R. 2217/Public Law 107-63. The information collection solicited is necessary to gain a benefit in the form of a grant, as determined by the Secretary of the Interior. An agency may not conduct or sponsor, and a person is not required to respond to, a collection of information unless it displays a currently valid Office of Management and Budget (OMB) control number. An information collection package has been submitted to OMB for approval. The OMB has up to 60 days to approve or disapprove the proposed information collection, but may respond after 30 days. To request a copy of the information collection approval request, explanatory information, and related forms, contact Rebecca A. Mullin at (703) 358-2287. A copy of the information collection approval request is also available electronically on the Service's website at http://endangered.fws.gov/grants/private—stewardship.html.

The likely respondents for grants under the PSGP will include individuals and private groups, and the submission of project proposals is voluntary. The collected information can be separated into two categories: the project proposal and the reporting requirements required for those projects that are selected to receive funding. To apply for a PSGP grant, individuals or groups must submit a project proposal. The project proposal should include information demonstrating that the eligibility criteria have been met and should be organized such that the ranking factors can be easily evaluated and other considerations can be easily identified. We will use this information to determine the eligibility and relative value of conservation projects competing for funding. Individuals and groups that are selected to receive and that accept funding under the PSGP, will be required to submit additional reporting information on project performance as well as the financial status of the project proposal. We will use this information to ensure that the funding is used appropriately and to monitor the effectiveness of the project in meeting its stated goals.

The reporting burden is estimated to average 8 hours per respondent for the project proposal and 4 hours per respondent for reporting activities. The total annual burden is 4,000 hours for the project proposals and 200 hours for reporting activities; the number of respondents is estimated to average 500 respondents for submitting project proposals and 50 respondents for the reporting requirements. The information collected does not carry a premise of confidentiality.

We invite comments on (1) Whether or not the collection of information is necessary for the proper performance of the functions of the Service, including whether or not the information will have practical utility; (2) the accuracy of the estimate of the burden of the collection of information, including the validity of the methodology and assumptions used; (3) the quality, utility, and clarity of the information to be collected; and (4) how to minimize the burden of the collection of information on those who are to respond, including the use of appropriate automated electronic, mechanical, or other forms of information technology. Comments may be submitted to: Attention: Desk Officer for the Department of the Interior, Office of Information and Regulatory Affairs, Office of Management and Budget, New Executive Office Building, Washington, DC 20503. Send a copy to the Information Collection Officer, Mail Stop 224 ARLSQ, U.S. Fish and Wildlife Service, Washington, DC 20240. To ensure consideration, comments must be received by July 8, 2002.

National Environmental Policy Act

We have analyzed this draft policy in accordance with the criteria of the National Environmental Policy Act (NEPA) and the Department of the Interior Manual (516 DM 2 and 6). This draft policy does not constitute a major Federal action significantly affecting the quality of the human environment. The Service has determined that the issuance of the draft policy is categorically excluded under the Department of the Interior's NEPA procedures in 516 DM 2, Appendix 1 and 516 DM 6, Appendix 1. The Service will ensure that projects that are funded through the PSGP are in compliance with NEPA.

Government-to-Government Relationship With Tribes

In accordance with the President's memorandum of April 29, 1994, “Government-to-Government Relations With Native American Tribal Governments” (59 FR 22951), E.O. 13175, and the Department of the Interior's manual at 512 DM 2, we readily acknowledge our responsibility to communicate meaningfully with federally recognized Tribes on a government-to-government basis. The effect of this draft policy document on Native American Tribes would be determined on a case-by-case basis with the individual evaluation of project proposals. Under Secretarial Order 3206, the Service will, at a minimum, share with the tribes any information concerning project proposals that may affect Tribal trust resources. After consultation with the Tribes and the project proponent, and after careful consideration of the Tribe's concerns, the Service must clearly state the rationale for the recommended final decision and explain how the decision relates to the Service's trust responsibility. Accordingly:

a. We have not yet consulted with the affected Tribe(s). This requirement will be addressed with individual evaluations of project proposals.

b. We have not yet treated Tribes on a government-to-government basis. This requirement will be addressed with individual evaluations of project proposals.

c. We will consider Tribal views in individual evaluations of project proposals.

d. We have not yet consulted with the appropriate bureaus and offices of the Department about the identified effects of this draft policy on Tribes. This requirement will be addressed with individual evaluations of project proposals.

Authority

This notice is published under the authority of the Department of the Interior and Related Agencies Appropriations Act, 2002, H.R. 2217/Public Law 107-63.

Dated: May 31, 2002.
Craig Manson,
Assistant Secretary for Fish and Wildlife and Parks.

[FR Doc. 02-14338 Filed 6-6-02; 8:45 am]

BILLING CODE 4310-55-P